FEDERAL COMMUNICATIONS COMMISSION

47 CFR Part 90

[PR Docket No. 93-144; FCC 01-150]

Amendment of Part of the Commission's Rules To Facilitate Future Development of SMR Systems in the 800 MHz Frequency Band

AGENCY: Federal Communications Commission, Wireless Telecommunications Bureau.

ACTION: Final rule; denial of petition for reconsideration.

SUMMARY: The Commission terminates the Fresno Remand Order proceeding and denies Chadmoore Wireless Group, Inc.'s (“Chadmoore”) Petition for Reconsideration filed on January 24, 2000. Chadmoore raised no new issues that would persuade the Commission to reverse their previous decision in the Fresno Remand Order.

FOR FURTHER INFORMATION CONTACT: William Kunze, Wireless Telecommunications Bureau, at (202) 418-7887.

SUPPLEMENTARY INFORMATION: This is a summary of the Federal Communications Commission's Order On Reconsideration, FCC 01-150, in PR Docket No. 93-144, adopted on May 1, 2001 and released on May 9, 2001. The full text of this Order on Reconsideration is available for inspection and copying during normal business hours in the FCC Reference Center, Room CY-A257, 445 12th Street, SW., Washington, DC 20554. The complete text may be purchased from the Commission's.

1. In this document the Commission reviews the Petition for Reconsideration, filed on January 24, 2000 by Chadmoore Wireless Group, Inc. (Chadmoore), seeking reconsideration of the Commission's Fresno Remand Order.

2. Chadmoore presented no new arguments in its Petition for Reconsideration, and the Commission sees nothing in the argument Chadmoore has made that would lead the Commission to change its decision in the Fresno Remand Order.

3. Pursuant to section 1.106 of the Commission's rules, 47 CFR 1.106, the Petition for Reconsideration filed by Chadmoore Wireless Group, Inc. on January 24, 2000 in the above-captioned proceeding Is Denied.

4. Pursuant to sections 1, 4(i), and 332 of the Communications Act of 1934, as amended, 47 U.S.C. 151, 154(i), and 332, this proceeding Is Terminated.

Federal Communications Commission.
William F. Caton,
Deputy, Secretary.

[FR Doc. 01-14140 Filed 6-5-01; 8:45 am]

BILLING CODE 6712-01-P